DEPARTMENT OF EDUCATION

President's Advisory Commission on Educational Excellence for Hispanic Americans

AGENCY: President's Advisory Commission on Educational Excellence for Hispanic Americans, Department of Education.

ACTION: Notice of meeting and expert panel.

SUMMARY: This notice sets forth the schedule and proposed agenda of a forthcoming meeting of the President's Advisory Commission on Educational Excellence for Hispanic Americans (Commission). This notice also describes the functions of the Commission. Notice of this meeting is required under section 10(a)(2) of the Federal Advisory Committee Act and is intended to notify the public of their opportunity to attend.

DATES: Monday, December 16—Tuesday, December 17, 2002.

Time: Monday, December 16, 2002: Expert panels—8 a.m.-11:45 a.m., 2 p.m.-3:45 p.m., Tuesday, December 17, 2002: Commission meeting-8:30 a.m.-12:30 p.m.

ADDRESSES: The Commission panels and meeting will be held in New York City, New York, at the Marriott Marquis, 1535 Broadway, New York, New York 10036.

FOR FURTHER INFORMATION CONTACT: Leslie Sanchez, Executive Director, or Adam Chavarria, Associate Director, White House Initiative on Educational Excellence for Hispanic Americans, 400 Maryland Ave., SW., Washington, DC 20202, (202) 401-1411.

SUPPLEMENTARY INFORMATION: The President's Advisory Commission on Educational Excellence for Hispanic Americans is established under Executive Order 13230 dated October 12, 2001. The Commission is established to provide advice to the Secretary of Education (Secretary) and issue reports to the President concerning: (a) The progress of Hispanic Americans in closing the academic achievement gap and attaining the goals established by the President's No Child Left Behind Act of 2002; (b) the development, monitoring, and coordination of Federal efforts to promote high-quality education for Hispanic Americans; (c) ways to increase parental, State and local, private sector, and community involvement in improving education; and (d) ways to maximize the effectiveness of Federal education initiatives within the Hispanics community.

Individuals who will need accommodations for a disability in order to attend the meeting (i.e. interpreting services, assistive listening devices, materials in alternative format) should notify Adam Chavarria at (202) 401-1411 by no later than December 12, 2002. We will attempt to meet requests after this date, but cannot guarantee availability of the requested accommodation. The meeting site is accessible to individuals with disabilities. An opportunity for public comment is available on Monday, December 16, 2002, from 4 p.m.-5 p.m. Those members of the public interested in submitting written comments in lieu of attendance may do so at the address indicated above before Friday, December 13, 2002.

Records are kept of all Commission proceedings, and are available for public inspection at the office of the White House Initiative on Educational Excellence for Hispanic Americans from the hours of 9 a.m. to 5 p.m.

Dated: November 26, 2002.
William Hansen,
Deputy Secretary, U.S. Department of Education.

[FR Doc. 02-30661 Filed 12-3-02; 8:45 am]

BILLING CODE 4000-01-M